DEPARTMENT OF TRANSPORTATION

Coast Guard

33 CFR Parts 154 and 155

[USCG-2001-8661]

RIN 2115-AG05

Vessel and Facility Response Plans for Oil: 2003 Removal Equipment Requirements and Alternative Technology Revisions

AGENCY: Coast Guard, DOT.

ACTION: Proposed rule; meeting and extension of comment period.

SUMMARY: The Coast Guard will hold a public meeting to let members of the public present oral comments on proposed rules for planholders transporting or transferring petroleum oil. A proposed rule published on October 11, 2002, would require changes to the requirements for oil-spill removal equipment under vessel response plans and marine transportation-related facility response plans. These changes would increase the minimum available spill removal equipment required for tank vessels and facilities, add requirements for new response technologies, and clarify methods and procedures for responding to oil spills in coastal waters.

DATES: The Coast Guard will hold this public meeting on Wednesday, December 18, 2002, from 9:30 a.m. to 3:30 p.m., except that the meeting may close early if all business is finished. Other comments must reach the Docket Management Facility on or before April 8, 2003.

ADDRESSES: The Coast Guard will hold this public meeting in room 4618, Coast Guard Headquarters, 2100 Second Street SW., Washington, DC 20593-0001.

You may submit your comments directly to the Docket Management Facility. To make sure that your comments and related material are not entered more than once in the docket [USCG-2001-8661], please submit them by only one of the following means:

(1) By mail to the Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments, and related material as indicated in this notice, will become part of this docket and will be available for inspection or copying at room PL-401, on the Plaza level of the Nassif Building at the same address between 9 a.m. and 5 p.m., Monday through Friday, except Federal holidays. You may also access this docket on the Internet at http://dms.dot.gov.

FOR FURTHER INFORMATION CONTACT: For questions on this notice, call or e-mail Mr. Robert Pond, G-MOR, Coast Guard, at telephone 202-267-6603, or rpond@comdt.uscg.mil. For questions on viewing, or submitting material to the docket, call Dorothy Beard, Chief, Dockets, Department of Transportation, telephone 202-366-9329.

SUPPLEMENTARY INFORMATION:

Requests for Comments

The Coast Guard encourages you to submit comments and related material concerning the notice of proposed rulemaking (NPRM) on Vessel and Facility Response Plans for Oil published October 11, 2002 [67 FR 63331]. If you do so, please include your name and address, identify the docket number [USCG-2001-8661] and give the reasons for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period.

Information on Service for Individuals With Disabilities

For information on facilities or services for individuals with disabilities or to seek special assistance at the meeting, contact Mr. Pond at the address or phone number under FOR FURTHER INFORMATION CONTACT as soon as possible.

Background Information

In 1996, the Coast Guard published final tank vessel response plan regulations [61 FR 1052, January 12, 1996] and final MTR facilities response plan regulations [61 FR 7890, February 29, 1996]. These regulations contain minimum on-water oil removal equipment requirements that planholders transporting or transferring petroleum oil are required to meet in planning for an oil discharge. These regulations also state that the Coast Guard will periodically review the existing oil removal equipment requirements to determine if increases in mechanical recovery systems and additional requirements for new response technologies are practicable.

On October 11, 2002, we published a notice of proposed rulemaking in the Federal Register [67 FR 63331] entitled “Vessel and Facility Response Plans for Oil: 2003 Removal Equipment Requirements and Alternative Technology Revisions”. It proposes an increase in the minimum available spill removal equipment required for tank vessels and facilities, added requirements for new response technologies, and it clarifies methods and procedures for responding to oil spills in coastal waters. A letter sent to the docket gave a number of reasons supporting the need for a public meeting and extension of time to file comments on the NPRM. The Coast Guard agrees with some of those reasons, so we are planning to hold the meeting announced by this notice, and we are extending the comment period until April 8, 2003.

Public Meeting

The Coast Guard encourages interested persons to attend the meeting and present oral comments during the meeting. The meeting is open to members of the public. Please note that the meeting may close early if all business is finished. We request that members of the public who plan to attend this meeting contact Mr. Pond at the telephone number or e-mail address listed under FOR FURTHER INFORMATION CONTACT so that building security officials may be notified. If you would like to present an oral comment during the meeting, please notify Mr. Pond no later than, December 11, 2002. If you are unable to attend the meeting, you may submit comments as indicated under SUPPLEMENTARY INFORMATION.

Dated: November 12, 2002.
Howard L. Hime,
Acting Director of Standards, Marine Safety, Security & Environmental Protection.

[FR Doc. 02-29168 Filed 11-18-02; 8:45 am]

BILLING CODE 4910-15-U